DEPARTMENT OF TRANSPORTATION

Federal Aviation Administration

Cancellation of Emergency Order Establishing Operating Limitations on the Use of Navigable Airspace

AGENCY: Department of Transportation, Federal Aviation Administration (FAA).

ACTION: Cancellation of Emergency Order Establishing Operating Limitations on the Use of Navigable Airspace.

SUMMARY: This Order cancels the November 12, 2025, “Emergency Order Establishing Operating Limitations on the Use of Navigable Airspace,” as amended by the November 14, 2025, Addendum, (November 12 Emergency Order) reducing and temporarily prohibiting certain operations in the navigable airspace to ensure the safety of aircraft and the efficiency of the National Airspace System (NAS). This Order cancels all requirements of the November 12 Emergency Order including to reduce operations at certain airports by 3 percent, and restores normal operating levels on the effective date of this Order. This Order also cancels the prohibition on operations by general aviation 14 CFR part 91 aircraft, non-scheduled 14 CFR part 135 aircraft, and 14 CFR part 380 public charter aircraft at certain airports, and the prohibition on commercial space launches and reentries during peak hours, and resumes normal air traffic control (ATC) services limited by the November 12 Emergency Order.

DATES: This Order takes effect at 6 a.m. EST on November 17, 2025.

ADDRESSES: If you wish to review the background documents or comments received in this proceeding, you may go to http://www.regulations.gov at any time and follow the online instructions for accessing the electronic docket. You may also go to the Docket Operations at the U.S. Department of Transportation in Room W12-140 on the ground floor of the West Building at 1200 New Jersey Avenue SE, Washington, DC, between 9:00 a.m. and 5:00 p.m., Monday through Friday, except Federal holidays.

FOR FURTHER INFORMATION CONTACT: Al Meilus, Slot Administration and Capacity Analysis, FAA ATO System Operations Services, AJR-G5, Federal Aviation Administration, 800 Independence Avenue SW, Washington, DC 20591; telephone (202) 267-2822; email 7-awa-slotadmin@faa.gov.

SUPPLEMENTARY INFORMATION:

I. Introduction

This Order cancels the November 12 Emergency Order, reducing and prohibiting certain operations in the navigable airspace. The Administrator of the Federal Aviation Administration (FAA) is issuing this Order because data reviewed by the agency shows a sufficient reduction in the risks that initially prompted the reductions.

II. Background

The U.S. Government has exclusive sovereignty over the airspace of the United States.¹ Under this broad authority, Congress has granted the Administrator extensive and plenary authority to ensure the safety of aircraft and the efficient use of the nation's navigable airspace. In this regard, the Administrator is required to develop plans and policies for the use of navigable airspace and assign by regulation or order under such terms, conditions, and limitations as he may deem necessary to ensure its safe and efficient use.² The Administrator may modify or revoke an assignment when required in the public interest.³ Furthermore, in carrying out the Administrator's safety and efficiency responsibilities under the statute, the Administrator must: (1) assign, maintain, and enhance safety and security as the highest priorities in air commerce, and (2) control the use of the navigable airspace and regulate civil operations in that airspace in the interest of the safety and efficiency of those operations.⁴

¹ 49 U.S.C. 40103.

² 49 U.S.C. 40103(b)(1), as previously codified in 49 U.S.C. App. § 307(a). Title 49 was recodified by Public Law 103-222, 108 Stat. 745 (1994). The textual revisions were not intended to result in substantive changes to the law. The recodification stated that the words in § 307(a) “under such terms, conditions, and limitations as he may deem” were omitted as surplus. H. Rpt. 103-180 (103d Cong., 1st Sess. 1993) at 262.

³ Id.

⁴ 49 U.S.C. 40101(d)(1) and (4).

The FAA's statutory authority to ensure “the safety of aircraft” and “the efficient use of airspace” encompasses its management of the nationwide system of air commerce and the Air Traffic Control (ATC) system. Ensuring the safe and efficient use of the airspace means that the FAA must take all necessary steps to prevent safety risks to, or situations potentially adversely affecting the overall safety of the ATC system for which the FAA is responsible.

Due to a lapse in appropriations, air traffic controllers worked without pay from October 3, 2025, to November 12, 2025. During that time, the FAA's Office of Aviation Safety (AVS) and Air Traffic Organization (ATO) continued to review, monitor, and evaluate ATC safety. As part of this review, the FAA assessed voluntary safety reports submitted for the month of October. The reports indicated users of the system had concerns about its performance even with current mitigations in place. The FAA observed evidence of increased stress on the national airspace system (NAS) in aviation safety data, particularly at 40 high traffic airports, identified in Appendix A (“High Impact Airports”) of the November 12 Emergency Order. This data indicated a correlation between ATO staffing and stress on the NAS, prompting the FAA to issue an order entitled “Emergency Order Establishing Operating Limitations on the Use of Navigable Airspace” on November 7, 2025, to mitigate safety concerns and to address ATC stressors by requiring certain air carriers to reduce their total daily scheduled domestic operations between 6:00 a.m. and 10:00 p.m. local. The order required gradually increasing reductions in domestic operations at High Impact Airports, culminating in a required reduction of 10 percent. However, before required reductions reached the 10 percent level, the FAA's review of pertinent data showed staffing rates reverting towards normal. Accordingly, the FAA issued the November 12 Emergency Order and the subsequent November 14 Addendum adjusting the reductions in operations to 6 percent and then 3 percent, respectively.

The FAA has continued to monitor data on National Airspace System (NAS) operations and has determined that ATO staffing levels have maintained at a consistently sufficient level to reduce stress on the NAS. As such, the FAA is canceling the November 12 Emergency Order.

III. National Environmental Policy Act Categorical Exclusion

The FAA has determined that this action qualifies for categorical exclusion (CATEX) under the National Environmental Policy Act (42 U.S.C. 4321, et seq.) in accordance with FAA Order 1050.1G, “FAA National Environmental Policy Act Implementing Procedures,” paragraph B-2.5(j). This CATEX applies to the following category of actions: “Implementation of procedures to respond to emergency air or ground safety needs, accidents, or natural events with no reasonably foreseeable long-term adverse impacts.” This action is not expected to cause any potentially significant environmental impacts, and no extraordinary circumstances exist that would preclude the use of this CATEX and require a higher level of NEPA review.

IV. Order

Accordingly, under the authority provided to the Secretary of Transportation and the FAA Administrator by 49 U.S.C. 40103, 40113, and 46105(c), it is hereby ordered that the November 12, 2025, Emergency Order Establishing Operating Limitations on the Use of Navigable Airspace is hereby cancelled in its entirety, effective at 6:00 a.m. EST on November 17, 2025, except that the FAA may pursue enforcement actions for failure to comply with the November 12 Emergency Order during its effective period.

Issued in Washington, DC, on November 16, 2025.
William McKenna,
Chief Counsel, Federal Aviation Administration.
Bryan Bedford,
Administrator, Federal Aviation Administration.

[FR Doc. 2025-20308 Filed 11-17-25; 4:15 pm]

BILLING CODE 4910-13-P